DEPARTMENT OF TRANSPORTATION

Federal Aviation Administration

14 CFR Parts 121 and 135

[Docket No. 28471; Amendment Nos. 121-355 and 135-125]

RIN 2120-AF08

Training and Qualification Requirements for Check Airmen and Flight Instructors; Technical Amendment

AGENCY: Federal Aviation Administration (FAA), DOT.

ACTION: Final rule; technical amendment.

SUMMARY: The FAA is amending its regulations regarding separate requirements for check airmen who check only in flight simulators and flight instructors who instruct only in flight simulators. This document corrects minor technical errors in the codified text of those regulations.

DATES: Effective June 16, 2011.

FOR FURTHER INFORMATION CONTACT: Eric Friedman, Air Transportation Division, AFS-200, Federal Aviation Administration, 800 Independence Avenue, SW., Washington, DC 20591; telephone: 202-493-5259; e-mail: eric.friedman@faa.gov.

SUPPLEMENTARY INFORMATION:

Background

On June 17, 1996, the FAA published a final rule entitled, “Training and Qualification Requirements for Check Airmen and Flight Instructors” (61 FR 30734).

In that final rule the FAA established separate requirements for check airmen who check only in flight simulators and flight instructors who instruct only in flight simulators. To ensure an equivalent level of safety, the affected check airmen and flight instructors must accomplish the following: Recency of experience requirements, including completion of an approved line-observation program within each 12-month period; and required training, including recurrent ground and flight training. Additionally this rule allowed check airman and flight instructors to obtain all of their flight training in simulators, as opposed to the then current scheme in which initial and transition flight training must include an in-flight element.

Technical Amendment

This technical amendment makes two revisions to the final rule: (1) The language in § 121.412(f)(2) incorrectly uses the term “check airman” when the term “flight instructor” should have been used; and (2) the language in § 135.338(f)(2) incorrectly uses the term “check airman” when the term “flight instructor” should have been used. Accordingly, this technical amendment revises §§ 121.412(f)(2) and 135.338(f)(2).

Because the changes in this technical amendment result in no substantive change, we find good cause exists under 5 U.S.C. 553(d)(3) to make the amendment effective in less than 30 days.

List of Subjects

14 CFR Part 121

Air carriers, Aircraft, Airmen, Alcohol abuse, Aviation safety, Charter flights, Drug abuse, Drug testing, Reporting and recordkeeping requirements, Safety, and Transportation.

14 CFR Part 135

Air taxis, Aircraft, Airmen, Alcohol abuse, Aviation safety, Drug abuse, Drug testing, and Reporting and recordkeeping requirements.

The Amendments

In consideration of the foregoing, the Federal Aviation Administration amends chapter I of title 14, Code of Federal Regulations as follows:

PART 121—OPERATING REQUIREMENTS: DOMESTIC, FLAG, AND SUPPLEMENTAL OPERATIONS

1. The authority citation for part 121 continues to read as follows:

Authority: 49 U.S.C. 106(g), 40113, 40119, 41706, 44101, 44701-44702, 44705, 44709-44711, 44713, 44716-44717, 44722, 46105.

2. Amend § 121.412 by revising paragraph (f)(2) to read as follows:

§ 121.412 Qualifications: Flight instructors (airplane) and flight instructors (simulator).

* * * * *

(f) * * *

(2) Satisfactorily complete an approved line-observation program within the period prescribed by that program preceding the performance of any flight instructor duty in a flight simulator.

* * * * *

PART 135—OPERATING REQUIREMENTS: COMMUTER AND ON DEMAND OPERATIONS AND RULES GOVERNING PERSONS ON BOARD SUCH AIRCRAFT

3. The authority citation for part 135 continues to read as follows:

Authority: 49 U.S.C. 106(g), 41706, 40113, 44701-44702, 44705, 44709, 44711-44713, 44715-44717, 44722, 45101-45105.

4. Amend § 135.338 by revising paragraph (f)(2) to read as follows:

§ 135.338 Qualifications: Flight instructors (aircraft) and flight instructors (simulator).

* * * * *

(f) * * *

(2) Satisfactorily complete an approved line-observation program within the period prescribed by that program preceding the performance of any flight instructor duty in a flight simulator.

* * * * *

Issued in Washington, DC, on June 10, 2011.
Dennis R. Pratte,
Acting Director, Office of Rulemaking.

[FR Doc. 2011-14999 Filed 6-15-11; 8:45 am]

BILLING CODE 4910-13-P